DEPARTMENT OF COMMERCE

Foreign-Trade Zones Board

[Order No. 1516]

Approval for Manufacturing Authority, Motorola Inc. (Mobile Phone Kitting), Fort Worth, Texas

Pursuant to its authority under the Foreign-Trade Zones Act of June 18, 1934, as amended (19 U.S.C. 81a-81u), the Foreign-Trade Zones Board (the Board) adopts the following Order:

Whereas, the Alliance Corridor, Inc., grantee of FTZ 196, has requested manufacturing authority at sites in Fort Worth, Texas on behalf of Motorola Inc. (Motorola) (FTZ Docket 6-2007, filed 2/16/2007);

Whereas, notice inviting public comment has been given in the Federal Register (72 FR 9304-9305, 3/1/2007);

Whereas, the Board adopts the findings and recommendations of the examiner's report, and finds that the requirements of the FTZ Act and Board's regulations are satisfied, and that approval of the application is in the public interest;

Now, therefore, the Board hereby orders:

The application for manufacturing authority within FTZ 196 on behalf of Motorola is approved, subject to the FTZ Act and the Board's regulations, including § 400.28.

Signed at Washington, DC, this 6th day of August 2007.

David M. Spooner,
Assistant Secretary of Commerce for Import Administration, Alternate Chairman, Foreign-Trade Zones Board.
Attest:
Andrew McGilvray,
Executive Secretary.

[FR Doc. E7-15811 Filed 8-10-07; 8:45 am]

BILLING CODE 3510-DS-S